DEPARTMENT OF COMMERCE

National Oceanic and Atmospheric Administration

RIN 0648-XF531

Pacific Fishery Management Council; Public Meeting

AGENCY: National Marine Fisheries Service (NMFS), National Oceanic and Atmospheric Administration (NOAA), Commerce.

ACTION: Notice; public meeting.

SUMMARY: The Pacific Fishery Management Council's (Pacific Council) Ad Hoc Community Advisory Board (CAB) will hold a two-day meeting that is open to the public.

DATES: The CAB meeting will begin Thursday, July 27, 2017 at 8 a.m., Pacific Standard Time, and recess when business for the day is completed. It will continue at 8 a.m. Friday, July 28, adjourning when business for the day is completed.

ADDRESSES: The meeting will be held at the Sheraton Portland Airport Hotel, Garden A/B/C Room, 8235 NE. Airport Way, Portland, OR 97220; telephone: (503) 281-2500.

Council address: Pacific Council, 7700 NE. Ambassador Place, Suite 101, Portland, OR 97220-1384.

FOR FURTHER INFORMATION CONTACT: Dr. Jim Seger, Pacific Council; telephone: (503) 820-2416.

SUPPLEMENTARY INFORMATION: The primary purpose of the CAB meeting is to develop preliminary ranges of alternatives for Pacific Council consideration at the September 2017 Pacific Council meeting. The issues to be covered were identified by the Pacific Council at its June 2017 meeting and include: Meeting the at-sea whiting fishery bycatch needs; trawl sablefish area management (gear conflicts); shoreside individual fishing quota (IFQ) accumulation limit; shoreside IFQ choke species management; shoreside IFQ gear switching limitation; and catcher-processor sector accumulation limits on permit ownership and harvesting/processing. Ranges of alternatives are to be developed and finalized for analysis over the course of the September and November Pacific Council meetings. Due to workload limitations, it is unlikely that all of these issues will move forward in 2017.

Although nonemergency issues not contained in the meeting agenda may be discussed, those issues may not be the subject of formal action during these meetings. Action will be restricted to those issues specifically listed in this document and any issues arising after publication of this document that require emergency action under section 305(c) of the Magnuson-Stevens Fishery Conservation and Management Act, provided the public has been notified of the intent to take final action to address the emergency.

Special Accommodations

The meetings are physically accessible to people with disabilities. Requests for sign language interpretation or other auxiliary aids should be directed to Mr. Kris Kleinschmidt at (503) 820-2411 at least 10 business days prior to the meeting date.

Dated: July 7, 2017.
Tracey L. Thompson,
Acting Deputy Director, Office of Sustainable Fisheries, National Marine Fisheries Service.

[FR Doc. 2017-14603 Filed 7-11-17; 8:45 am]

BILLING CODE 3510-22-P